SECURITIES AND EXCHANGE COMMISSION

[OMB Control No. 3235-0452]

Agency Information Collection Activities; Proposed Collection; Comment Request; Extension: Notice of Exempt Preliminary Roll-Up Communication

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Rule 14a-6(n) (17 CFR 240.14a-6(n)) requires any person that engages in a proxy solicitation subject to Exchange Act Rule 14a-2(b)(4) (17 CFR 240.14a-2(b)(4)) to file a Notice of Exempt Preliminary Roll-Up Communication (“Notice”) (17 CFR 240.14a-104) with the Commission. The Notice provides information regarding ownership interest and any potential conflicts of interest to be included in statements submitted by or on behalf of a person engaging in the solicitation. We estimate that the Notice takes approximately 0.25 hours per response and is filed once per year by approximately 6 respondents. We estimate that 100% of the burden is carried out internally by the filer. Based on our estimates, we calculate a total annual reporting burden of 2 hours ((0.25 hours per response × 100%) × 6 responses per year), when rounded to the nearest dollar. Because we estimate that 100% of the burden will be carried internally by the filer, we estimate that there is no cost burden associated with the Notice.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 13, 2026. There will be a second opportunity to comment on this SEC request following the Federal Register publishing a 30-Day Submission Notice.

Dated: January 8, 2026.
Sherry R. Haywood,
Assistant Secretary.

[FR Doc. 2026-00324 Filed 1-9-26; 8:45 am]

BILLING CODE 8011-01-P